DEPARTMENT OF COMMERCE

Foreign-Trade Zones Board

[Order No. 1741]

Reorganization of Foreign-Trade Zone 181 under Alternative Site Framework; Akron/Canton, OH

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Northeast Ohio Trade & Economic Consortium, grantee of Foreign-Trade Zone 181, submitted an application to the Board (FTZ Docket 49-2010, filed 8/17/2010) for authority to reorganize under the ASF with a service area of Ashtabula, Trumbull, Mahoning, Columbiana, Portage, Summit, Stark, Medina, Wayne and Richland Counties, Ohio, adjacent to the Cleveland Customs and Border Protection port of entry, FTZ 181's existing Sites 1, 3-6, and 8-27 would be categorized as magnet sites, and the grantee proposes an additional magnet site (Site 29);

Whereas, notice inviting public comment was given in the Federal Register (75 FR 51753-51754, 8/23/2010) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 181 under the alternative site framework is approved, subject to the FTZ Act and the Board's regulations, including Section 400.28, to the Board's standard 2,000-acre activation limit for the overall general-purpose zone project, to a five-year ASF sunset provision for magnet sites that would terminate authority for Sites 3-5, 8, 10, 11, 14-21, 23, 25-27 and 29 if not activated by February 29, 2016, and to a seven-year ASF sunset provision for magnet sites that would terminate authority for Sites 6, 9, 12, 13, 22 and 24 if not activated by February 28, 2018.

Signed at Washington, DC, this 4th day of February, 2011.
Ronald K. Lorentzen,
Deputy Assistant Secretary for Import Administration, Alternate Chairman, Foreign-Trade Zones Board.
Andrew McGilvray,
Executive Secretary.

[FR Doc. 2011-3895 Filed 2-18-11; 8:45 am]

BILLING CODE P